DEPARTMENT OF HEALTH AND HUMAN SERVICES

Centers for Disease Control and Prevention

[30Day-04-04]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503, or by fax to (202) 395-6974. Written comments should be received within 30 days of this notice.

Proposed Project: Restriction on Travel of Persons (OMB No. 0920-0488)—Extension—National Center for Infectious Diseases (NCID), Centers for Disease Control and Prevention (CDC).

In 2000, the Food and Drug Administration (FDA) and CDC consolidated regulations related to controlling the spread of communicable diseases. FDA formerly administered the regulations contained in part 1240 of title 21, Code of Federal Regulations, which pertained to interstate control of communicable diseases. These regulations may now be found in part 70 of title 42, Code of Federal Regulations.

FDA transferred 21 CFR part 1240 to CDC. This mandate regulates the interstate travel of any person who is in the communicable period of cholera, plague, smallpox, typhus, or yellow fever, or who, having been exposed to any such disease, is in the incubation period thereof. One of the sections—formerly 21 CFR 1240.50 and now 42 CFR 70.5 (Certain communicable diseases; special requirements)—contains a requirement for reporting certain information to the Federal government. Specifically, this regulation requires any person who is in the communicable period of cholera, plague, smallpox, typhus or yellow fever, or who, having been exposed to any such disease, is in the incubation period thereof, to apply for and receive a permit from the Surgeon General or his authorized representative in order to travel from one State or possession to another.

Control of disease transmission within the States is considered to be the province of state and local health authorities, with federal assistance being sought by those authorities on a cooperative basis without application of federal regulations. The regulations formerly administered by FDA and assumed by CDC were developed to facilitate Federal action in the event of large outbreaks requiring a coordinated effort involving several states, or in the event of inadequate local control. While it is not known whether, or to what extent situations may arise in which these regulations would be invoked, contingency planning for domestic emergency preparedness is now commonplace. Should this occur, CDC will use the reporting and record-keeping requirements contained in the regulations to carry out quarantine responsibilities as required by law. The estimated annualized burden is 3,600 hours.

Regulation/purpose | Respondent | No. of applicants | No. of responses per applicant | Average burden per response
42 CFR 70.3 Application to the State of destination for a permit to move from one State to another with a communicable disease | Any person with a communicable disease who is seeking to travel from one State to another | 2,000 | 1 | 15/60
| Attending physician | 2,000 | 1 | 15/60
42 CFR 70.3 Copy of material submitted by applicant and permit issued by State health authority under this provision | State health authority | 8 | 250 | 6/60
42 CFR 70.4 Report by the master of a vessel person in charge of a conveyance of the incidence of a communicable disease occurring while in interstate transit | The master of a vessel or person in charge of a conveyance engaged in interstate traffic when a case or potential case of a communicable disease is identified | 1,500 | 1 | 15/60
42 CFR 70.4 Copy of material submitted to State or local health authority under this provision | State or local health authority | 20 | 75 | 6/60
42 CFR 70.5 Application for a permit to move from State to State while in the communicable period of or having been exposed to smallpox | Any person with or in the incubation period of certain communicable diseases who is seeking to travel form one State to another. | 3,750 | 1 | 15/60
| Attending physician | 3,750 | 1 | 15/60

Dated: November 17, 2003.
Laura Yerdon Martin,
Acting Director, Executive Secretariat, Centers for Disease Control and Prevention.

[FR Doc. 03-29213 Filed 11-21-03; 8:45 am]

BILLING CODE 4163-18-P